DEPARTMENT OF HOMELAND SECURITY

Coast Guard

33 CFR Part 117

[CGD01-07-058]

Drawbridge Operation Regulations; Charles River and Its Tributaries, Boston, MA

AGENCY: Coast Guard, DHS.

ACTION: Notice of temporary deviation from regulations.

SUMMARY: The Commander, First Coast Guard District, has issued a temporary deviation from the regulation governing the operation of the Massachusetts Bay Commuter Railroad (MBCR)/Amtrak Bridge across the Charles River, mile 0.8, at Boston, Massachusetts. Under this temporary deviation, in effect for two weekends, the MBTA/Amtrak Bridge may remain in the closed position on Friday evening June 8 and 15, 2007, from 11:59 p.m. through to 5 a.m. Saturday morning. Vessels that can pass under the draw without a bridge opening may do so at all times. This deviation is necessary to facilitate bridge track repairs.

DATES: This deviation is effective from June 8, 2007 through June 16, 2007.

ADDRESSES: Materials referred to in this document are available for inspection or copying at the First Coast Guard District, Bridge Branch Office, 408 Atlantic Avenue, Boston, Massachusetts, 02110, between 7 a.m. and 3 p.m., Monday through Friday, except Federal holidays. The telephone number is (617) 223-8364. The First Coast Guard District Bridge Branch Office maintains the public docket for this temporary deviation.

FOR FURTHER INFORMATION CONTACT: John McDonald, Project Officer, First Coast Guard District, at (617) 223-8364.

SUPPLEMENTARY INFORMATION: The MBTA/Amtrak Bridge, across the Charles River, mile 0.8, at Boston, Massachusetts, has a vertical clearance in the closed position of 3 feet at mean high water and 12 feet at mean low water. The existing drawbridge operation regulations are listed at 33 CFR 117.591(c).

The owner of the bridge, the Massachusetts Bay Commuter Railroad (MBCR), requested a temporary deviation to facilitate repairs to the bridge rails.

Under this temporary deviation the MBCR/Amtrak Bridge need not open for the passage of vessel traffic on Friday evening June 8, 2007 and June 15, 2007, from 11:59 p.m. through 5 a.m. Saturday morning. Vessels that can pass under the bridge without a bridge opening may do so at all times.

In accordance with 33 CFR 117.35(e), the bridge must return to its regular operating schedule immediately at the end of the designated time period. This deviation from the operating regulations is authorized under 33 CFR 117.35.

Dated: June 4, 2007.
Gary Kassof,
Bridge Program Manager, First Coast Guard District.

[FR Doc. E7-11550 Filed 6-14-07; 8:45 am]

BILLING CODE 4910-15-P